DEPARTMENT OF THE INTERIOR

Bureau of Indian Affairs

Deadline for Submission of Applications To Be Included on the Roll of Western Shoshone Identifiable Group of Indians for Judgment Fund Distribution

AGENCY: Bureau of Indian Affairs, Interior.

ACTION: Notice.

SUMMARY: This notice establishes the deadline by which applications must be received for eligible individuals to be listed on the roll that will be used as the basis for distributing the judgment funds awarded by the Indian Claims Commission to the Western Shoshone Identifiable Group of Indians in Docket No. 326-K.

DATES: Applications must be received by close of business (5 p.m. Mountain Time) August 2, 2010.

ADDRESSES: Submit applications to Bureau of Indian Affairs Western Shoshone, Tribal Government Services, P.O. Box 3838, Phoenix, AZ 85030-3838.

FOR FURTHER INFORMATION CONTACT: Sharlot Johnson, Tribal Government Services, Bureau of Indian Affairs, Western Regional Office, 2600 North Central Avenue, Phoenix, Arizona 85004, (602) 379-6786.

SUPPLEMENTARY INFORMATION: Under section 3(b)(1) of the Act of July 7, 2004, Public Law 108-270, 118 Stat. 805, the Secretary of the Interior (Secretary) will prepare a roll of all individuals who meet the eligibility criteria established under the Act and who file timely applications prior to the date listed in the DATES section of this Federal Register notice. The roll will be used as the basis for distributing the judgment funds awarded by the Indian Claims Commission to the Western Shoshone Identifiable Group of Indians in Docket No. 326-K. Department of the Interior regulations at 25 CFR 61.4(k) set out the eligibility requirements for inclusion on this roll. To be eligible a person must:

(i) Have at least ¼ degree of Western Shoshone blood;

(ii) Be living on July 7, 2004;

(iii) Be a citizen of the United States; and

(iv) Not be certified by the Secretary to be eligible to receive a per capita payment from any other judgment fund based on an aboriginal land claim awarded by the Indian Claims Commission, the United States Claims Court, or the United States Court of Federal Claims, that was appropriated on or before July 7, 2004.

The Secretary will use Indian census rolls prepared by the Agents or Superintendents at Carson or Western Shoshone Agencies between the years of 1885 and 1940 and other documents acceptable to the Secretary in establishing proof of eligibility of an individual to be listed on the judgment roll and receive a per capita payment under the Western Shoshone Claims Distribution Act.

In the preamble to the regulation governing the creation of the roll of Western Shoshone identifiable group of Indians for judgment fund distribution, the Bureau of Indian Affairs set out a non-regulatory formula for determining the application deadline. Because that formula has proven to be administratively impractical to administer, the Bureau of Indian Affairs, in conjunction with tribal leaders and the Western Shoshone Claims Steering Committee, has selected an application deadline that approximates what the deadline would be under the formula in the preamble, if that formula had worked as intended.

The information collection requirement contained in this notice has been approved by the Office of Management and Budget (OMB) under 44 U.S.C. 3504(h). The OMB control number is 1076-0165 and expires on November 30, 2011. Response is required to obtain a benefit. An agency may not sponsor, and you are not required to respond to, any information collection that does not display a currently valid OMB control number.

Dated: May 10, 2010.
Larry Echo Hawk,
Assistant Secretary—Indian Affairs.

[FR Doc. 2010-11923 Filed 5-19-10; 8:45 am]

BILLING CODE 4310-4J-P